DEPARTMENT OF TRANSPORTATION

Federal Aviation Administration

14 CFR Part 39

[Docket No. FAA-2016-4228; Directorate Identifier 2015-NM-107-AD]

RIN 2120-AA64

Airworthiness Directives; Airbus Airplanes

AGENCY: Federal Aviation Administration (FAA), DOT.

ACTION: Notice of proposed rulemaking (NPRM).

SUMMARY: We propose to supersede Airworthiness Directive (AD) 2014-13-12, for all Airbus Model A318, A319, A320, and A321 series airplanes. AD 2014-13-12 currently requires identifying the part number and serial number of each passenger oxygen container, replacing the oxygen generator manifold of any affected oxygen container with a serviceable manifold, and performing an operational check of the manual mask release, and doing corrective actions if necessary. Since we issued AD 2014-13-12, we have determined that affected containers have not only been marked with company name B/E Aerospace, as was specified, but also, for a brief period, with the former company name DAe Systems. This proposed AD would retain the requirements of AD 2014-13-12, and require replacing the oxygen generator manifold of any affected DAe oxygen container with a serviceable manifold. We are proposing this AD to detect and correct nonserviceable oxygen generator manifolds, which could reduce or block the oxygen supply and result in injury to passengers when oxygen supply is needed.

DATES: We must receive comments on this proposed AD by May 5, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com.

For B/E AEROSPACE service information identified in this proposed AD, contact BE Aerospace Systems GmbH, Revalstrasse 1, 23560 Lübeck, Germany; telephone (49) 451 4093-2976; fax (49) 451 4093-4488.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-4228; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2016-4228; Directorate Identifier 2015-NM-107-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On July 9, 2014, we issued AD 2014-13-12, Amendment 39-17888 (79 FR 45317, August 5, 2014) (“AD 2014-13-12”). AD 2014-13-12 requires actions intended to address an unsafe condition on all Airbus Model A318, A319, A320, and A321 series airplanes.

Since we issued AD 2014-13-12, we have determined that affected containers have not only been marked with company name B/E Aerospace, as was specified, but also, for a brief period, with the former company name DAe Systems.

The European Aviation Safety Agency (EASA), which is the Technical Agent for the Member States of the European Union, has issued EASA Airworthiness Directive 2014-0208, dated September 16, 2014 (referred to after this as the Mandatory Continuing Airworthiness Information, or “the MCAI”), to correct an unsafe condition. The MCAI states:

During production of passenger oxygen containers, the manufacturer, B/E Aerospace, detected some silicon particles inside the oxygen generator manifolds. Investigation revealed that those particles (chips) had chafed from the mask hoses during installation onto the generator outlets. It was discovered that a defective mask hose installation device had caused the chafing.

This condition, if not detected and corrected, could reduce or block the oxygen supply, possibly resulting in injury to passengers when oxygen supply is needed.

To address this potential unsafe condition, EASA issued AD 2011-0167 [http://ad.easa.europa.eu/blob/easa_ad_2011_0167_superseded.pdf/AD_2011-0167_1] to require the identification and modification of the affected oxygen container assemblies. That [EASA] AD also prohibited the installation of the affected containers on any aeroplane as replacement parts. It was subsequently established that Models A318-121 and A318-122 were missing from the Applicability of the [EASA] AD, and clarification was necessary regarding the affected containers.

Consequently, EASA issued AD 2012-0083 [http://ad.easa.europa.eu/blob/easa_ad_2012_0083_superseded.pdf/AD_2012-0083_1] [which corresponds to FAA AD 2014-13-12, Amendment 39-17888 (79 FR 45317, August 5, 2014)], retaining the requirements of EASA AD 2011-0167, which was superseded, expanded the Applicability by adding two aeroplane models, and provided clarity by providing a list of affected passenger oxygen containers.

Since that [EASA] AD was issued, it was found that the affected containers have not only been marked with company name B/E Aerospace, as was specified, but also, for a brief period, with the former company name DAe Systems.

For the reason described above, this [EASA] AD retains the requirements of EASA AD 2012-0083, which is superseded, and expands the affected group of containers to include those that have the name “DAe Systems” on the identification plate.

This [EASA] AD also clearly separates the serial number (s/n) groups of containers into those manufactured by B/E Aerospace and those manufactured by DAe Systems, for which additional compliance time is provided.

You may examine the MCAI in the AD docket on the Internet at http://www.regulations.gov by searching for and locating Docket No. FAA-2016-4228.

Related Service Information Under 1 CFR Part 51

Airbus has issued Service Bulletin A320-35A1047, dated March 29, 2011. The service information describes procedures for modifying the oxygen mask hoses of the Type 1 and Type 2 oxygen containers.

B/E AEROSPACE has issued Service Bulletins 1XCXX-0100-35-005 and 22CXX-0100-35-003, both Revision 2, both dated July 10, 2014. The service information describes procedures for replacement of the oxygen generator manifold.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type designs.

Changes to This Proposed AD

We have not included paragraph (h)(5) of AD 2014-13-12 in this proposed AD. Paragraph (h)(5) of AD 2014-13-12 inadvertently specified that certain actions were to be done if the affected part was listed in the specified service information. It should have specified that those actions were to be done only if the part was not listed in the service information. We have included the correct requirement in the new actions of this proposed AD.

We have removed Note 1 to paragraph (h)(1) of AD 2014-13-12, which identified affected passenger emergency oxygen container assemblies as those having the mark “B/E AEROSPACE” on the identification plate. This is no longer applicable because we have determined that affected containers have not only been marked with company name B/E Aerospace, as was specified, but also, for a brief period, with the former company name DAe Systems.

We have added Note 2 to figure 1 to paragraph (i)(7) of this AD, which provides information to clarify information presented in figure 1 to paragraph (i)(7) of this AD.

Costs of Compliance

We estimate that this proposed AD affects 22 airplanes of U.S. registry.

The actions required by AD 2014-13-12, and retained in this proposed AD take about 6 work-hours per product, at an average labor rate of $85 per work-hour. Based on these figures, the estimated cost of the actions that are required by AD 2014-13-12 is $510 per product.

We also estimate that it would take about 6 work-hours per product to comply with the basic requirements of this proposed AD. The average labor rate is $85 per work-hour. Based on these figures, we estimate the cost of this proposed AD on U.S. operators to be $11,220, or $510 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-13-12, Amendment 39-17888 (79 FR 45317, August 5, 2014), and adding the following new AD:

Airbus: Docket No. FAA-2016-4228; Directorate Identifier 2015-NM-107-AD.

(a) Comments Due Date

We must receive comments by May 5, 2016.

(b) Affected ADs

This AD replaces AD 2014-13-12, Amendment 39-17888 (79 FR 45317, August 5, 2014) (“AD 2014-13-12”).

(c) Applicability

This AD applies to the Airbus airplanes identified in paragraphs (c)(1) through (c)(4) of this AD, certificated in any category, all manufacturer serial numbers.

(1) Model A318-111, -112, -121, and -122 airplanes.

(2) Model A319-111, -112, -113, -114, -115, -131, -132, and -133 airplanes.

(3) Model A320-211, -212, -214, -231, -232, -233, and -271 airplanes.

(4) Model A321-111, -112, -131, -211, -212, -213, -231, and -232 airplanes.

(d) Subject

Air Transport Association (ATA) of America Code 35, Oxygen.

(e) Reason

This AD was prompted by reports of silicon particles inside the oxygen generator manifolds, which had chafed from the mask hoses during installation onto the generator outlets. We are issuing this AD to detect and correct nonserviceable oxygen generator manifolds, which could reduce or block the oxygen supply and result in injury to passengers when oxygen supply is needed.

(f) Compliance

Comply with this AD within the compliance times specified, unless already done.

(g) Retained Part Number and Serial Number Identification, With No Changes

This paragraph restates the requirements of paragraph (g) of AD 2014-13-12, with no changes. Within 5,000 flight cycles, or 7,500 flight hours, or 24 months, whichever occurs first after September 9, 2014 (the effective date of AD 2014-13-12), identify the part number and serial number of each passenger oxygen container. A review of airplane maintenance records is acceptable in lieu of this identification if the part number and serial number of the oxygen container can be conclusively determined from that review.

(h) Retained Replacement, Check, and Repair, With Paragraph (h)(5) and Note 1 to Paragraph (h) of AD 2014-13-12 Removed, and Revised Repair Instructions

This paragraph restates the requirements of paragraph (h) of AD 2014-13-12, with paragraph (h)(5) and Note 1 to paragraph (h) of AD 2014-13-12 removed, and revised repair instructions. If the part number of the passenger oxygen container is listed in paragraph (h)(1) of this AD and the serial number of the passenger oxygen container is listed in paragraph (h)(2) of this AD: Within the compliance time specified in paragraph (g) of this AD, do the actions specified in paragraphs (h)(3) and (h)(4) of this AD, except as provided by paragraphs (i)(1) through (i)(7) of this AD.

(1) (Type I: 15 and 22 minutes) 12C15Lxxxxx0100, 12C15Rxxxxx0100, 13C15Lxxxxx0100, 13C15Rxxxxx0100, 14C15Lxxxxx0100, 14C15Rxxxxx0100, 12C22Lxxxxx0100, 12C22Rxxxxx0100, 13C22Lxxxxx0100, 13C22Rxxxxx0100, 14C22Lxxxxx0100, and 14C22Rxxxxx0100; and (Type II: 15 and 22 minutes) 22C15Lxxxxx0100, 22C15Rxxxxx0100, 22C22Lxxxxx0100, and 22C22Rxxxxx0100.

(2) ARBA-0000 to ARBA-9999 inclusive, ARBB-0000 to ARBB-9999 inclusive, ARBC-0000 to ARBC-9999 inclusive, ARBD-0000 to ARBD-9999 inclusive, ARBE-0000 to ARBE-9999 inclusive, BEBF-0000 to BEBF-9999 inclusive, BEBH-0000 to BEBH-9999 inclusive, BEBK-0000 to BEBK-9999 inclusive, BEBL-0000 to BEBL-9999 inclusive, and BEBM-0000 to BEBM-9999 inclusive.

(3) Replace the oxygen generator manifold of any affected oxygen passenger container with a serviceable manifold, in accordance with the Accomplishment Instructions of Airbus Service Bulletin A320-35A1047, dated March 29, 2011.

(4) Do an operational check of the manual mask release, in accordance with the Accomplishment Instructions of Airbus Service Bulletin A320-35A1047, dated March 29, 2011. If the operational check fails, before further flight, repair the manual mask release, using a method approved by the Manager, International Branch, ANM-116, Transport Airplane Directorate, FAA; or the European Aviation Safety Agency (EASA); or Airbus's EASA Design Organization Approval (DOA).

(i) Retained Exceptions, With No Changes

This paragraph restates the provisions of paragraph (i) of AD 2014-13-12, with no changes.

(1) Oxygen containers that meet the conditions specified in paragraph (i)(1)(i) or (i)(1)(ii) of this AD are compliant with the requirements of paragraph (h) of this AD.

(i) Oxygen containers Type I having a part number listed in paragraph (h)(1) of this AD and having a serial number listed in paragraph (h)(2) of this AD, that have been modified prior to September 9, 2014 (the effective date of AD 2014-13-12), as specified in the Accomplishment Instructions of B/E Aerospace Service Bulletin 1XCXX-0100-35-005, Revision 1, dated December 15, 2012.

(ii) Oxygen containers Type II having a part number listed in paragraph (h)(1) of this AD and having a serial number listed in paragraph (h)(2) of this AD, that have been modified prior to September 9, 2014 (the effective date of AD 2014-13-12), as specified in the Accomplishment Instructions of B/E Aerospace Service Bulletin 22CXX-0100-35-003, Revision 1, dated December 20, 2011.

(2) Airplanes on which Airbus Modification 150703 or Airbus Modification 150704 has not been embodied in production do not have to comply with the requirements of paragraph (h) of this AD, unless an oxygen container having a part number listed in paragraph (h)(1) of this AD and having a serial number listed in paragraph (h)(2) of this AD has been replaced since the airplane's first flight.

(3) Airplanes on which Airbus Modification 150703 or Airbus Modification 150704 has been embodied in production and which are not listed by model and manufacturer serial number in Airbus Service Bulletin A320-35A1047, dated March 29, 2011, are not subject to the requirements of paragraphs (g) and (h) of this AD, unless an oxygen container having a part number listed in paragraph (h)(1) of this AD and having a serial number listed in paragraph (h)(2) of this AD has been replaced since the airplane's first flight.

(4) Model A319 airplanes that are equipped with a gaseous oxygen system for passengers, installed in production with Airbus Modification 33125, do not have the affected passenger oxygen containers installed. Unless these airplanes have been modified in service (no approved Airbus modification exists), the requirements of paragraphs (g) and (h) of this AD do not apply to these airplanes.

(5) Airplanes that have already been inspected prior to the effective date of this AD, in accordance with the Accomplishment Instructions of Airbus Service Bulletin A320-35A1047, dated March 29, 2011, must be inspected and, depending on the findings, corrected, within the compliance time defined in paragraph (g) of this AD, as required by paragraph (h) of this AD, as applicable, except as specified in paragraph (i)(6) of this AD.

(6) Airplanes on which the passenger oxygen container has been replaced before the effective date of this AD, in accordance with the Accomplishment Instructions of Airbus Service Bulletin A320-35A1047, dated March 29, 2011, are compliant with the requirements of the paragraph (h) of this AD for that passenger oxygen container.

(7) The requirements of paragraphs (g) and (h) of this AD apply only to passenger oxygen containers that are Design A, as defined in figure 1 to paragraph (i)(7) of this AD.

Note 1 to figure 1 to paragraph (i)(7) of this AD: Figure 1 is a reproduction of material from EASA AD 2012-0083, dated May 16, 2012. The words “Appendix 1 of this AD” in this figure refer to Appendix 1 of EASA AD 2012-0083, dated May 16, 2012.

Note 2 to figure 1 to paragraph (i)(7) of this AD: For “Design A,” the placard on the passenger oxygen container test button is as described in “Picture A” in figure 1 to paragraph (i)(7) of this AD. The mask configuration (“ZZ” in “Picture A”) is a number, and the test button is as shown in “Picture B.”

(j) Retained Parts Installation Limitations, With No Changes

This paragraph restates the requirements of paragraph (j) of AD 2014-13-12, with no changes. As of September 9, 2014 (the effective date of AD 2014-13-12), no person may install an oxygen container having a part number specified in paragraph (h)(1) of this AD and having a serial number specified in paragraph (h)(2) of this AD, on any airplane, unless the container has been modified in accordance with the Accomplishment Instructions of any of the service information specified in paragraph (j)(1), (j)(2), or (j)(3) of this AD, as applicable.

(1) Airbus Service Bulletin A320-35A1047, dated March 29, 2011.

(2) B/E AEROSPACE Service Bulletin 1XCXX-0100-35-005, Revision 1, dated December 15, 2012.

(3) B/E AEROSPACE Service Bulletin 22CXX-0100-35-003, Revision 1, dated December 20, 2011.

(k) New Requirement of This AD: Identification of Oxygen Containers

At the applicable time specified in paragraphs (k)(1) and (k)(2) of this AD: Identify the part number and serial number of each passenger oxygen container. A review of airplane maintenance records is acceptable in lieu of this identification if the part number and serial number of the oxygen container can be conclusively determined from that review.

(1) For units with “B/E AEROSPACE” on the identification plate: Within 5,000 flight cycles, or 7,500 flight hours, or 24 months, whichever occurs first after the effective date of this AD.

(2) For units with “DAe Systems” on the identification plate: Within 2,500 flight cycles, or 3,750 flight hours, or 12 months, whichever occurs first, after the effective date of this AD.

(l) New Requirement of This AD: Modification of Oxygen Containers

If a passenger oxygen container has a part number listed in paragraph (h)(1) of this AD and a serial number listed in paragraph (m)(1) or (m)(2) of this AD: At the applicable time specified in paragraphs (k)(1) and (k)(2) of this AD, do the actions specified in paragraphs (l)(1), (l)(2), and (l)(3) of this AD.

(1) Replace the oxygen generator manifold of any affected oxygen container with a serviceable manifold, in accordance with the Accomplishment Instructions of Airbus Service Bulletin A320-35A1047, dated March 29, 2011.

(2) Do an operational check of the manual mask release, in accordance with the Accomplishment Instructions of Airbus Service Bulletin A320-35A1047, dated March 29, 2011. If the operational check fails, before further flight, repair the manual mask release, using a method approved by the Manager, International Branch, ANM-116, Transport Airplane Directorate, FAA; or the EASA; or Airbus's EASA DOA.

(3) Check if the part number of the passenger oxygen container is listed in B/E Aerospace Service Bulletin 1XCXX-0100-35-005, Revision 2, dated July 10, 2014; or B/E Aerospace Service Bulletin 22CXX-0100-35-003, Revision 2, dated July 10, 2014, as applicable. If the part number is not listed in B/E Aerospace Service Bulletin 1XCXX-0100-35-005, Revision 2, dated July 10, 2014; or B/E Aerospace Service Bulletin 22CXX-0100-35-003, Revision 2, dated July 10, 2014; within the compliance time specified in paragraphs (k)(1) and (k)(2) of this AD, repair the passenger oxygen container using a method approved by the Manager, International Branch, ANM-116, Transport Airplane Directorate, FAA; or the EASA; or Airbus's EASA DOA.

(m) New Requirement of This AD: Part Number and Serial Numbers for the Parts Affected by Paragraph (l) of This AD Requirements

Affected parts for the actions required by paragraph (l) of this AD are identified in paragraphs (m)(1) and (m)(2) of this AD.

(1) For oxygen containers with “DAe Systems” on the identification plate: Units having a part number identified in paragraphs (h)(1) of this AD, where part number “xxxxx” stands for any alphanumerical value, and a serial number identified in paragraphs (m)(1)(i) through (m)(1)(vi) of this AD.

(i) ARBA-0000 to ARBA-9999 inclusive.

(ii) ARBB-0000 to ARBB-9999 inclusive.

(iii) ARBC-0000 to ARBC-9999 inclusive.

(iv) ARBD-0000 to ARBD-9999 inclusive.

(v) ARBE-0000 to ARBE-9999 inclusive.

(vi) BEBE-0000 to BEBE-9999 inclusive.

(2) For oxygen containers with “B/E AEROSPACE” on the identification plate: Units having a part number identified in paragraphs (h)(1) of this AD, where part number “xxxxx” stands for any alphanumerical value, and a serial number identified in paragraphs (m)(2)(i) through (m)(2)(v) of this AD.

(i) BEBF-0000 to BEBF-9999 inclusive.

(ii) BEBH-0000 to BEBH-9999 inclusive.

(iii) BEBK-0000 to BEBK-9999 inclusive.

(iv) BEBL-0000 to BEBL-9999 inclusive.

(v) BEBM-0000 to BEBM-9999 inclusive.

(n) New Requirement of This AD: Exceptions

(1) Oxygen containers that meet the conditions specified in paragraph (n)(1)(i) or (n)(1)(ii) of this AD are compliant with the requirements of paragraph (l) of this AD.

(i) Oxygen containers Type I having a part number listed in paragraph (h)(1) of this AD and having a serial number listed in paragraph (m)(1) or (m)(2), as applicable, of this AD, that have been modified prior to the effective date of this AD, as specified in the Accomplishment Instructions of B/E Aerospace Service Bulletin 1XCXX-0100-35-005, Revision 1, dated December 15, 2012; or B/E Aerospace Service Bulletin 1XCXX-0100-35-005, Revision 2, dated July 10, 2014.

(ii) Oxygen containers Type II having a part number listed in paragraph (h)(1) of this AD and having a serial number listed in paragraph (m)(1) or (m)(2) of this AD, as applicable, that have been modified prior to the effective date of this AD, as specified in the Accomplishment Instructions of B/E Aerospace Service Bulletin 22CXX-0100-35-003, Revision 1, dated December 20, 2011; or B/E Aerospace Service Bulletin 22CXX-0100-35-003, Revision 2, dated July 10, 2014.

(2) Airplanes on which Airbus Modification 150703 or Airbus Modification 150704 has not been embodied in production do not have to comply with the requirements of paragraph (l) of this AD, unless an oxygen container having a part number listed in paragraph (h)(1) of this AD and having a serial number listed in paragraph (m)(1) or (m)(2) of this AD, as applicable, of this AD has been replaced since the airplane's first flight.

(3) Airplanes on which Airbus Modification 150703 or Airbus Modification 150704 has been embodied in production and which are not listed by model and manufacturer serial number in Airbus Service Bulletin A320-35A1047, dated March 29, 2011, are not subject to the requirements of paragraphs (k) and (l) of this AD, unless an oxygen container having a part number listed in paragraph (h)(1) of this AD and having a serial number listed in paragraph (m)(1) or (m)(2) of this AD, as applicable, of this AD has been replaced since the airplane's first flight.

(4) Model A319 airplanes that are equipped with a gaseous oxygen system for passengers, installed in production with Airbus Modification 33125, do not have the affected passenger oxygen containers installed. Unless these airplanes have been modified in service (no approved Airbus modification exists), the requirements of paragraphs (k) and (l) of this AD do not apply to these airplanes.

(5) Airplanes that have already been inspected prior to the effective date of this AD, in accordance with the Accomplishment Instructions of Airbus Service Bulletin A320-35A1047, dated March 29, 2011, must be inspected and, depending on the findings, corrected, within the compliance time defined in paragraphs (k)(1) and (k)(2) of this AD, as applicable, as required by paragraph (l) of this AD, as applicable, except as specified in paragraph (n)(6) of this AD.

(6) Airplanes on which the passenger oxygen container has been replaced before the effective date of this AD, in accordance with the Accomplishment Instructions of Airbus Service Bulletin A320-35A1047, dated March 29, 2011, are compliant with the requirements of the paragraph (l) of this AD for that passenger oxygen container.

(7) The requirements of paragraphs (k) and (l) of this AD apply only to passenger oxygen containers that are Design A, as defined in figure 1 to paragraph (i)(7) of this AD.

(o) New Requirement of This AD: Parts Installation Limitations

As of the effective date of this AD, no person may install an oxygen container having a part number specified in paragraph (h)(1) of this AD and having a serial number specified in paragraph (m)(1) or (m)(2) of this AD, as applicable, on any airplane, unless the container has been modified in accordance with the Accomplishment Instructions of any of the service information specified in paragraph (o)(1), (o)(2), or (o)(3) of this AD, as applicable to the oxygen container part number.

(1) Airbus Service Bulletin A320-35A1047, dated March 29, 2011.

(2) B/E Aerospace Service Bulletin 1XCXX-0100-35-005, Revision 2, dated July 10, 2014.

(3) B/E Aerospace Service Bulletin 22CXX-0100-35-003, Revision 2, dated July 10, 2014.

(p) Credit for Previous Actions

(1) This paragraph restates the requirements of paragraph (k) of AD 2014-13-12, with no changes. This paragraph provides credit for the actions required by paragraph (h) of this AD, if those actions were performed before September 9, 2014 (the effective date of AD 2014-13-12) using the service information specified in paragraph (p)(1)(i) or (p)(1)(ii) of this AD, as applicable to the oxygen container part number.

(i) B/E Aerospace Service Bulletin 1XCXX-0100-35-005, dated March 14, 2011, which is not incorporated by reference in this AD.

(ii) B/E Aerospace Service Bulletin 22CXX-0100-35-003, dated March 17, 2011, which is not incorporated by reference in this AD.

(2) This paragraph provides credit for the actions required by paragraphs (l)(3) and (o) of this AD, if those actions were performed before the effective date of this AD using the service information specified in paragraph (p)(2)(i) or (p)(2)(ii) of this AD, as applicable to the oxygen container part number.

(i) B/E Aerospace Service Bulletin 1XCXX-0100-35-005, Revision 1, dated December 15, 2012, which is incorporated by reference in AD 2014-13-12.

(ii) B/E Aerospace Service Bulletin 22CXX-0100-35-003, Revision 1, dated December 20, 2011, which is incorporated by reference in AD 2014-13-12.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2014-13-12, are approved as AMOCs for the corresponding provisions of paragraphs (g) through (j) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(r) Related Information

(1) Refer to Mandatory Continuing Airworthiness Information (MCAI) EASA Airworthiness Directive 2014-0208, dated September 16, 2014, for related information. This MCAI may be found in the AD docket on the Internet at http://www.regulations.gov by searching for and locating Docket No. FAA-2016-4228.

(2) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For B/E Aerospace service information identified in this proposed AD, contact BE Aerospace Systems GmbH, Revalstrasse 1, 23560 Lübeck, Germany; telephone (49) 451 4093-2976; fax (49) 451 4093-4488. You may view this service information at the FAA, Transport Airplane Directorate, 1601 Lind Avenue SW., Renton, WA. For information on the availability of this material at the FAA, call 425-227-1221.

Issued in Renton, Washington, on March 14, 2016.
Michael Kaszycki,
Acting Manager, Transport Airplane Directorate, Aircraft Certification Service.

[FR Doc. 2016-06247 Filed 3-18-16; 8:45 am]

BILLING CODE 4910-13-P